DEPARTMENT OF DEFENSE

Department of the Air Force

[Docket ID: USAF-2010-0015]

Privacy Act of 1974; System of Records

AGENCY: Department of the Air Force, DoD.

ACTION: Notice to add a system of records.

SUMMARY: The Department of the Air Force proposes to add a system of records to its inventory of record systems subject to the Privacy Act of 1974 (5 U.S.C. 552a), as amended.

DATES: The proposed action will be effective on June 7, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, 703-696-6488.

SUPPLEMENTARY INFORMATION: The Department of the Air Force's notices for systems of records subject to the Privacy Act of 1974 (5 U.S.C. 552a), as amended, have been published in the Federal Register and are available from the Department of the Air Force Privacy Office, Air Force Privacy Act Office, Office of Warfighting Integration and Chief Information officer, ATTN: SAF/XCPPI, 1800 Air Force Pentagon, Washington DC 20330-1800.

The proposed systems report, as required by 5 U.S.C. 552a(r) of the Privacy Act, was submitted on April 27, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: May 4, 2010.
Mitchell S. Bryman,
Alternate OSD Federal Register Liaison Officer, Department of Defense.

F031 AFMC C

SYSTEM NAME:

Automated Installation Entry Control System/Visitor Center Enrollment System.

SYSTEM LOCATION:

Barnes Air National Guard Base, 104th Security Forces Squadron Attn: AIECS POC, 175 Falcon Drive, Building 31, MA 01085-1482.

MacDill Air Force Base, 6th Security Forces Squadron, Attn: AIECS POC, 2505 SOCOM Memorial Hwy., Building 203, FL 33621-1011.

Test Site C-3, Eglin Air Force Base, 46th Range Support Squadron (RANSS), Attn: AIECS POC, 308 West D Avenue, Suite 203, FL 32542-5418.

CATEGORIES OF INDIVIDUALS COVERED BY THE SYSTEM:

Active Duty, National Guard, and Reserve Personnel; government employees, contractors, retirees, dependents, visitors, and foreign personnel assigned to military installations.

CATEGORIES OF RECORDS IN THE SYSTEM:

Badge and vehicle control records that at a minimum include: Name, Social Security Number (SSN), Electronic Data Interchange Personal Identifier (EDIPI), home address, telephone number, citizenship, grade or rank, date of birth, place of birth, gender, employment information, military address, license plate number, driver's license number, vehicle make, model, year, color, driver's identification credential barcode data, and suspension, revocation, and debarment status.

AUTHORITY FOR MAINTENANCE OF THE SYSTEM:

10 U.S.C. 8013, Secretary of the Air Force, Powers and Duties; Department of Defense 5200.08-R Physical Security Program; Department of Defense Air Force Instruction (AFI) 31-203, Security Forces Management Information System (SFMIS); and Directive Type Memorandum 09-012, Interim Policy Guidance for DoD Physical Access Control; and E.O. 9397 (SSN), as amended.

PURPOSE(S):

The Automated Installation Entry Control System (AIECS) is a law enforcement tool designed to be installed at military installation vehicle entry gates. The system scans information off of DoD issued credentials and system-produced visitor passes presented to a lane-side barcode scanner in order to enhance security and vehicle throughput.

ROUTINE USES OF RECORDS MAINTAINED IN THE SYSTEM INCLUDING CATEGORIES OF USERS AND THE PURPOSES OF SUCH USE:

In addition to those disclosures generally permitted under 5 U.S.C. 552A(b) of the Privacy Act of 1974, these records contained therein may be specifically disclosed outside the Department of Defense as a routine use pursuant to 5 U.S.C. 552a(b)(3) as follows:

The DoD `Blanket Routine Uses' published at the beginning of the Air Force's compilation of systems of records notices apply to this system.

POLICIES AND PRACTICES FOR STORING, RETRIEVING, ACCESSING, RETAINING, AND DISPOSING OF RECORDS IN THE SYSTEM:

STORAGE:

Electronic storage media.

RETRIEVABILITY:

Data is retrieved by querying a driver's name, Social Security Number (SSN), Electronic Data Interchange Personal Identifier (EDIPI), or driver's identification credential barcode.

SAFEGUARDS:

Records are accessed by persons responsible for servicing the system in performance of their official duties. Individuals are properly screened and cleared for need-to-know. Records are stored in locked cabinets, locked rooms, or buildings with controlled entry. Computer records are controlled by computer system software.

RETENTION AND DISPOSAL:

Computer records are destroyed by erasing, deleting, or overwriting. Personnel records are retained indefinitely in line with law enforcement purposes. Audit records are retained for a period of three years, after which they are deleted from the system.

SYSTEM MANAGER(S) AND ADDRESS:

AIECS Program Manager, 642d ELSS, 642d Electronic Systems Squadron, 45 Arnold St., Bldg. 1600, Hanscom AFB, MA 01731-1600.

Barnes ANGB, 104th Security Forces Squadron, Attn: AIECS POC, 104th SFS, 175 Falcon Drive, Building 31, Barnes ANGB, Westfield, MA 01085-1482.

MacDill AFB, 6th SFS, Attn: AIECS POC, 6th SFS2505 SOCOM Memorial Hwy., Building 203, MacDill AFB, FL 33621-1011.

Test Site C-3 Eglin AFB, 46th RANSS, Attn: AIECS POC, Test Site C-3 308 West D Avenue, Suite 203, Eglin AFB, FL 32542-5418.

NOTIFICATION PROCEDURES:

Individuals seeking to determine whether information about themselves is contained in this system of records should address inquiries to their local Base Security Forces office.

Requests must contain full name, Social Security Number (SSN), and current mailing address.

Barnes ANGB, 104th SFS, Attn: AIECS POC, 104th SFS/SFM175 Falcon Drive, Building 31, Barnes ANGB, Westfield, MA 01085-1482.

MacDill AFB, 6th SFS, Attn: AIECS POC, 6th SFS/SFO 2505 SOCOM Memorial Hwy., Building 203, MacDill AFB, FL 33621-1011.

Test Site C-3 Eglin AFB, 46th RANSS, Attn: AIECS POC, Test Site C-3308 West D Avenue, Suite 203, Eglin AFB, FL 32542-5418.

RECORD ACCESS PROCEDURES:

Individuals seeking to access information about themselves contained in this system of records should address written inquiries to their local Base Security Forces office.

Requests must contain full name, Social Security Number (SSN), and current mailing address.

Barnes ANGB, 104th SFS, Attn: AIECS POC, 104th SFS/SFM175 Falcon Drive, Building 31, Barnes ANGB, Westfield, MA 01085-1482.

MacDill AFB, 6th SFS, Attn: AIECS POC, 6th SFS/SFO 2505 SOCOM Memorial Hwy., Building 203, MacDill AFB, FL 33621-1011.

Test Site C-3 Eglin AFB, 46th RANSS, Attn: AIECS POC, Test Site C-3308 West D Avenue, Suite 203, Eglin AFB, FL 32542-5418.

CONTESTING RECORD PROCEDURES:

The Air Force rules for accessing records, and for contesting contents and appealing initial agency determinations are published in Air Force Instruction 33-332; 32 CFR part 806b; or may be obtained from the system manager.

RECORD SOURCE CATEGORIES:

Information obtained from individuals and from Defense Enrollment Eligibility Reporting System (DEERS) and Security Forces Management Information System (SFMIS).

EXEMPTIONS CLAIMED FOR THE SYSTEM:

None.

[FR Doc. 2010-10850 Filed 5-6-10; 8:45 am]

BILLING CODE 5001-06-P